DEPARTMENT OF COMMERCE

National Oceanic and Atmospheric Administration

RIN 0648-XH27

Endangered and Threatened Species; Take of Anadromous Fish

AGENCY: National Marine Fisheries Service (NMFS), National Oceanic and Atmospheric Administration (NOAA), Commerce.

ACTION: Applications for scientific research permits, permit modifications, and renewals.

SUMMARY: Notice is hereby given that NMFS has received 15 scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on May 22, 2008.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall, threatened Puget Sound (PS).

Chum salmon (O. keta): threatened Columbia River (CR), threatened Hood Canal summer (HCS).

Steelhead (O. mykiss): threatened LCR, threatened UWR, threatened middle Columbia River (MCR), threatened SR, endangered UCR, threatened PS.

Coho salmon (O. kisutch): threatened LCR, threatened Southern Oregon Northern California Coasts (SONCC), threatened Oregon Coast (OC).

Sockeye salmon (O. nerka): endangered SR.

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1114 - Renewal

The Washington Department of Fish and Wildlife (WFDW) is seeking to renew permit 1114 for a period of five years. The original permit was in place for five years (63 FR 20169) with three modifications (63 FR 43381, 65 FR 15314, 66 FR 38641); it expired on December 31, 2002. The next Permit 1114 was also in place for five years and expired on December 31, 2007. Under the new Permit, the WDFW would conduct a study that would annually take juvenile, endangered UCR spring Chinook salmon; and juvenile and adult endangered UCR steelhead in the State of Washington. Under this permit, the WDFW would capture juvenile UCR spring Chinook salmon and steelhead as part of a long-term, ongoing smolt monitoring program at Rock Island Dam on the Columbia River. Under the new permit (as with the old) the captured smolts would be held for as long as 24 hours and all would be anesthetized, sampled for data relating to their species, size, origin (hatchery or natural), and examined for the presence of a coded wire tag (CWT) or passive integrated transponder (PIT) tag. Some of the captured fish would be examined for evidence of gas bubble trauma (GBT) and others would be implanted with a PIT tag. All captured fish would be allowed to recover before being released in the dam's tailrace. The WDFW also expects to capture a few downstream-migrating steelhead kelts during the course of the trapping operation. These fish would simply be anesthetized and immediately moved to the lower sections of the adult fishway where they could recover on their own and continue their migration. The WDFW does not intend to kill any of the fish being captured, but a small percentage may die as a result of the research activities.

The purpose of the research is to provide important information regarding what effects the annual mid- and upper (Columbia) river water allocation budget has on listed salmonids. The data being collected would be used to assess the effects of the water allocation plan and thereby improve smolt migration conditions (e.g., through releasing adequate amounts of upstream water during the migration period) and increase listed spring Chinook and steelhead survival rates. Another important objective of the program is to help resource managers develop the Basin-wide database for PIT-tagged salmonids and thus increase what is known about smolt migration timing and behavior in the Columbia River system.

Permit 1134 - Renewal

The Columbia River Inter-Tribal Fish Commission (CRITFC) is seeking to renew Permit 1134, under which they have been conducting research for more than ten years. The original permit was in place for five years (63 FR 30199) with one amendment (67 FR 43909); it expired on December 31, 2002. The next permit was also in place for five years expiring on December 31, 2007. The CRITFC is now requesting a new five-year permit to continue covering five study projects that, among them, would annually take adult and juvenile threatened SR fall Chinook salmon; adult and juvenile threatened SR spring/summer Chinook salmon; and adult and juvenile threatened SR steelhead in the Snake River basin. There have been some changes in the research over the last ten years and these changes are reflected in this application, nonetheless, the projects proposed are largely continuations of ongoing research. They are: Project 1 - Adult Spring/summer and Fall Chinook Salmon and Summer Steelhead Ground and Aerial Spawning Ground Surveys; Project 2 - Cryopreservation of Spring/summer Chinook Salmon and Summer Steelhead Gametes; Project 3 - Adult Chinook Salmon Abundance Monitoring Using Video Weirs, Acoustic Imaging, and PIT tag Detectors in the South Fork Salmon River; Project 4 - Snorkel, Seine, fyke net, Minnow Trap, and Electrofishing Surveys and Collection of Juvenile Chinook Salmon and Steelhead; and Project 5 Juvenile Anadromous Salmonid Emigration Studies Using Rotary Screw Traps. Under these tasks, listed adult and juvenile salmon would be variously (a) observed/harassed during fish population and production monitoring surveys; (b) captured (using seines, trawls, traps, hook-and-line angling equipment, and electrofishing equipment) and anesthetized; (c) sampled for biological information and tissue samples, (d) PIT-tagged or tagged with other identifiers, (e) and released. The CRITFC does not intend to kill any of the fish being captured, but a small percentage may die as a result of the research activities.

The research has many purposes and would benefit listed salmon and steelhead in different ways. However, in general, the studies are part of ongoing efforts to monitor the status of listed species in the Snake River basin and to use that data to inform decisions about land- and fisheries management actions and to help prioritize and plan recovery measures for the listed species. Under the proposal, the studies would continue to benefit listed species by generating population abundance estimates, allowing comparisons to be made between naturally reproducing populations and those being supplemented with hatchery fish, and helping preserve listed salmon and steelhead genetic diversity.

Permit 1379 - Modification 1

The CRITFC is seeking to modify Permit 1379. The CRITFC is currently authorized to annually take listed salmonids (endangered UCR Chinook and steelhead; threatened MCR steelhead; threatened LCR steelhead and Chinoook; threatened LCR coho; threatened SR Chinook and steelhead; and endangered SR sockeye) while conducting research designed to increase what we know about the status and productivity of various fish populations, collect data on migratory and exploitation (harvest) patterns, and develop baseline information on various population and habitat parameters in order to guide salmonid restoration strategies. The studies are: Project 1 Juvenile Upriver Bright Fall Chinook Sampling at the Hanford Reach; Project 2 Adult Chinook, Sockeye, and Coho Sampling at Bonneville Dam; and Project 3 Adult Sockeye Sampling at Tumwater Dam, Wenatchee River. They wish to modify the permit by (a) increasing the number of adult steelhead they take during the activities at Bonnevile Dam, and (b) ensuring that tagging is a permitted activity during the Hanford Reach sampling. They are also asking to increase the number of SR Chinook they handle but not the number of mortalities.

The CRITFC is currently authorized to obtain fish from the adult collection facility at Bonneville Dam. The fish are anesthetized, measured, examined for marks, scale-sampled, and allowed to return to the river. They use similar techniques to sample listed fish at Tumwater Dam on the Wenatchee River. They use beach- and stick seines to capture juvenile fish in the Hanford reach of the Columbia River and are seeking express authorization to tag those fish. Under the other portions of the research, CRITFC captures and transports fish to a holding facility where they are anesthetized, examined for marks, adipose-clipped, coded wire tagged, allowed to recover, and released. The CRITFC wishes to be allowed to continue all these activities along with the modifications given above. They do not intend to kill any of the fish being captured but a small number may die as an unintended result of the activities.

Permit 1422 - Renewal

The United States Forest Service (USFS) is seeking to renew Permit 1422 for a period of five years. The permit was originally in place for five years and expired on December 31, 2007. Under Permit 1422, the USFS was previously authorized to annually take juvenile endangered UCR Chinook salmon, juvenile endangered UCR steelhead, and juvenile threatened MCR steelhead during research activities taking place at various points in the Yakima, Methow, Entiat, and Wenatchee River drainages in Washington State. They wish to continue those activities. Under the renewed permit, the fish would be captured (using minnow traps, hook-and-line angling, and electrofishing equipment), identified, and immediately released. The purpose of the research is to determine fish distribution in the subbasins listed above. The research would benefit the fish by giving land managers information they need in order to design forest management activities (e.g., timber sales, grazing plans, road building) in such a way as to conserve listed species. The USFS does not intend to kill any of the listed fish being captured, but a small percentage may die as an unintended result of the research activities.

Permit 1465 - Renewal

The Idaho Department of Environmental Quality (IDEQ) is asking to renew Permit 1465 for a period of five years. Their current permit expires on December 31, 2008, but they wish to renew it now and modify it slightly. They are currently authorized to annually take juvenile threatened SR steelhead, threatened SR fall Chinook salmon, threatened SR spr/sum Chinook salmon, and endangered SR sockeye salmon during the course of two research projects designed to ascertain the condition of many Idaho streams and determine the degree to which they meet certain critical stream health parameters. Thus far, the fish have largely been captured using backpack electrofishing equipment (though boat electrofishing equipment has also been used), weighed and measured (some may be anesthetized to limit stress), and released. The IDEQ wishes to modify their permit by including a greater component of boat electrofishing, but the number of fish they are proposing to take would actually decrease from their currently allotted levels.

The purposes of the research are to (a) determine whether aquatic life is being properly supported in Idaho's rivers, streams and lakes, and (b) assess the overall condition of Idaho's surface waters. The fish would benefit from the research because the data it produces would be used to inform decisions about how and where to protect and improve water quality in the state. The IDEQ does not intend to kill any of the fish being captured, but a small percentage may die as an unintended result of the research activities.

Permit 1480 - Renewal

The United States Geological Survey (USGS) is asking to renew Permit 1480 for a period of five years. Their current permit expires on December 31, 2008, but they wish to renew it now. They are currently authorized to annually take adult and juvenile endangered UCR Chinook and steelhead in three tributaries to the Methow River in Washington State. The purpose of the research is to monitor the contribution these streams make to Chinook and steelhead production in the Methow subbasin both before and after human-made passage barriers in the streams have been removed. The research would benefit the fish by generating information on the effectiveness of such restoration actions in the area, and that information, in turn, would be used to guide other such efforts throughout the region. The USGS proposes to capture the fish using weirs/traps and backpack electrofishing equipment anesthetize them, PIT-tag them (if they are large enough), allow them to recover, and release them. Several instream PIT-tag interrogation sites would be put into place to monitor the fish in the tributaries. In addition, tissue samples would be taken from some of the fish. The USGS does not intend to kill any of the fish being captured, but a small percentage may die as an unintended result of the research activities.

Permit 1560 - Renewal

The USGS is asking to renew Permit 1480 for a period of five years. Their current permit expires on December 31, 2008, but they wish to renew and slightly modify it now. Permit 1560 currently authorizes the USGS to annually take adult and juvenile threatened LCR Chinook salmon, threatened CR chum salmon, threatened MCR steelhead, and threatened LCR coho salmon in the White Salmon River, Washington, a tributary to the lower Columbia River. The USGS is seeking to continue that research. The objectives of the research are to (1) determine fish assemblage composition and fish use in the lower White Salmon River; (2) assess salmonid growth and survival as indices of productivity; (3) contribute to U.S. Fish and Wildlife Service's efforts to characterize life history, genetics, and health of Chinook stocks that currently use the lower White Salmon River; and (4) coordinate with ongoing sampling efforts associated with dam removal projects in the Elwah River system (Olympic Peninsula, Washington). The USGS would augment those objectives slightly by adding a baseline analysis for pathogens (disease) in the White River.

The study would benefit listed salmonids by providing information on the effects dam removal may have on important fish species such as Chinook, coho, steelhead, Pacific lamprey, bull trout, and sea-run cutthroat trout. The USGS proposes to conduct snorkel surveys instead of capturing fish whenever possible but they would also capture fish using backpack electrofishing equipment, traps, and angling. The researchers wold then anesthetise, measure, weigh and inspect the fish for external diseases. The researchers would also clip the fins of some captured fish in order to collect genetic tissues and gauge trapping efficiency. The researchers would seek to avoid adult salmonids, but some may be handled as an unintentional result of sampling. Some LCR Chinook fry would be sacrificed for the disease analysis, but otherwise the USGS does not intend to kill the fish being captured nonetheless, some juvenile fish may die as an unintentional result of the research activities.

Permit 1562 - Modification 1

The Oregon Department of Environmental Quality (DEQ) Laboratory and Environmental Assessment Division is asking to modify Permit 1562 a five-year research permit to take adult and juvenile UWR Chinook and steelhead; adult and juvenile LCR Chinook, coho, and steelhead; adult and juvenile CR chum; adult and juvenile MCR steelhead; adult and juvenile SR steelhead, fall-run Chinook, spring/summer-run Chinook, and sockeye; adult and juvenile OC coho; and adult and juvenile SONCC coho during the course of monitoring to evaluate the status of the chemical, habitat, and biological integrity of all perennial streams (wadeable and non-wadeable) across the United States. The monitoring would be conducted as part of the national Environmental Monitoring and Assessment Program (EMAP) which aims to advance the science of ecological monitoring and ecological risk assessment, guide national monitoring with improved scientific understanding of ecosystem integrity and dynamics, and demonstrate multi-agency monitoring through large regional projects. EMAP develops indicators to monitor the condition of ecological resources. The monitoring would benefit listed salmonids by providing data and assessments of fish habitat conditions and ecological resources to decision-makers and the public. Additionally, The DEQ would be able to make estimates of stream and river conditions across Oregon with known statistical confidences.

The DEQ proposes to capture (using backpack and/or boat electrofishing), identify, measure, and release juvenile fish. Adult fish may be encountered but would not be netted. The DEQ does not intend to kill any of the fish being captured, but a few may die as an unintended result of the activities.

Permit 10111

The Oregon State University (OSU) Department of Fisheries and Wildlife is requesting a five-year research permit to take adult and juvenile UWR Chinook and steelhead during the course of research designed to provide information on the dynamics and use of cold water refuges for anadromous salmon and other cold water species. The information would provide a more rigorous understanding of thermal regimes in river systems and offer guidance for conservation and restoration planning, and species management. The study would benefit listed salmonids by helping determine whether the ecosystem services of cold water habitats can be quantified and incorporated into restoration and conservation programs. The OSU proposes to capture (using boat electrofishing), identify, measure, and release juvenile fish. Adult fish may be encountered but would not be netted. The OSU does not intend to kill any of the fish being captured, but a few may die as an unintended result of the activities.

Permit 10114

The Science Applications International Corporation (SAIC) is requesting a five-year research permit to take adult and juvenile PS Chinook and steelhead, and adult and juvenile HCS chum during research designed to characterize bay sediments and identify contaminated areas for future cleanup in Puget Sound, Washington. The study would ultimately benefit listed salmonids by helping minimize their exposure to contaminants during cleanup of the impacted sediments. The SAIC proposes to capture (using beach seining and otter trawling), identify, measure, enumerate, and release juvenile and adult fish. The SAIC does not intend to kill any of the fish being captured, but a few may die as an unintended result of the activities.

Permit 13374

The Bonneville Power Administration (BPA) is seeking a five-year permit to annually take juvenileMCR steelhead during the course of research designed to assess the current distribution and health of the fish in Rock Creek, Washington (a tributary to the Columbia River). The research would benefit the fish by helping managers plan recovery actions in the area particularly the Rock Creek Subbasin Recovery Planning Group. The researchers would use backpack electrofishing units to capture the fish. The fish would then be anesthetized, measured, and given PIT tags. Some of the fish would also receive fin clips for genetic sampling purposes. Another portion of the fish would be sacrificed to determine if any pathogens are present in the population. Any fish that die as an accidental result of the capturing and tagging activities would be used in place of fish that would have been lethally taken for the pathogen analysis.

Permit 13375

Forest and Channel Metrics (FCM) Inc. is seeking a two-year permit to capture and handle juvenile UCR Chinook and steelhead, LCR Chinook and steelhead, SR Chinook (spr/sum) and steelhead, PS Chinook, and LCR coho salmon while conducting headwater stream surveys over large portions of Washington State. The purpose of the research is to provide owners of industrial forest lands and the major state lands managers in Washington with accurate maps of where threatened and endangered salmonids are on their various properties. The work would benefit the salmon and steelhead by helping land managers plan and carry out their activities in ways that would have the smallest effect possible on the listed fish. The fish would be captured using backpack electrofishing equipment and released without tagging or even handling more than is necessary to ensure that they have recovered from the effects of being captured. The FCM researchers do not intend to kill any listed salmonids, but a small number may die as an unintended result of the activities.

Permit 13380

The Northwest Fisheries Science Center (NWFSC) is seeking to annually take natural juvenile SR spring/summer Chinook salmon and SR steelhead in the Salmon River subbasin, Idaho. This research was authorized for the past five years as part of Permit 1403, but the researchers determined, upon expiration of that permit in 2007, that they should seek an individual permit for their activities. The research is designed to assess three alternative methods of nutrient enhancement (Salmon carcasses, carcass analogues, and nutrient Pellets) on biological communities in Columbia River tributaries. In general, the purpose of the research is to learn how salmonids acquire nutrients from the carcasses of dead spawners and test three methods of using those nutrients to increase growth and survival among naturally produced salmonids. The research would benefit the fish by helping managers use nutrient enhancement techniques to recover listed salmonid populations. Moreover, managers would gain a broader understanding of the role marine-derived nutrients play in ecosystem health as a whole. This, in turn, would help inform management decisions and actions intended to help salmon recovery in the future.

Under the proposed research, the fish would variously be (a) captured (using seines, nets, traps, and possibly, electrofishing equipment) and anesthetized; (b) measured, weighed and fin-clipped; (c) held for a time in enclosures in the stream from which they are captured; and (d) released. Some fish would also be intentionally killed as part of the research. It is also likely that a small percentage of the fish being captured would unintentionally be killed during the process. In addition, tissue samples would be taken from adult carcasses found on streambanks.

Permit 13381

The research proposed under this permit was authorized for the past five years as part of Permit 1406, but the researchers determined, upon expiration of that permit in 2007, that they should seek an individual permit for their activities. The NWFSC is therefore requesting a five-year permit to annually take juvenile threatened SR spr/sum Chinook salmon and juvenile threatened SR steelhead at various places in the Salmon River drainage in Idaho and at Little Goose Dam on the lower Snake River. The listed fish would be variously captured (using seines, dip nets, and electrofishing), re-captured at a smolt bypass facility, anesthetized, tagged with PIT tags or otherwise marked, tissue sampled, weighed, measured, and released.

The purpose of the research is to continue monitoring juvenile outmigration behavior among steelhead spr/sum Chinook salmon populations in Idaho. The research would benefit the fish by continuing to supply managers with the information they need to budget water releases at hydropower facilities in ways that would help protect migrating juveniles. Some juvenile listed fish would be intentionally killed as part of the research. It is also likely that a small percentage of the fish being captured would unintentionally be killed during the process.

Permit 13382

The research proposed under this permit was authorized for the past five years as part of Permit 1406, but the researchers determined, upon expiration of that permit in 2007, that they should seek an individual permit for their activities. The NWFSC is therefore requesting a five-year permit to annually take juvenile threatened SR spr/sum Chinook salmon and natural, juvenile threatened SR steelhead at various places in the Snake River drainage in Idaho and in various streams of Southeast Washington and Northeast Oregon. The listed fish would be variously captured (using seines, dip nets, traps, and electrofishing), anesthetized, tissue sampled, weighed, measured, and released.

The purpose of the research is to continue monitoring the effects of supplementation among steelhead spring/summer Chinook salmon populations in Idaho. The research would benefit the fish by continuing to supply managers with the information they need to use hatchery programs to conserve listed species. The researchers do not intend to kill any of the fish being captured, but some may die as an unintended result of the process.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 16, 2008.
Marta Nammack,
Acting Chief, Endangered Species Division, Office of Protected Resources, National Marine Fisheries Service.

[FR Doc. E8-8688 Filed 4-21-08; 8:45 am]

BILLING CODE 3510-22-S